DEPARTMENT OF THE INTERIOR

Fish and Wildlife Service

Availability of Draft National Management Plan for the Genus Caulerpa

AGENCY: Fish and Wildlife Service, Interior.

ACTION: Notice of document availability and request for comments.

SUMMARY: This notice announces the availability of the draft National Management Plan for the Genus Caulerpa (NMP) for public review and comment. The draft was prepared by the Caulerpa Working Group of the Aquatic Nuisance Species Task Force, as authorized by the Nonindigenous Aquatic Nuisance Prevention and Control Act of 1990 (16 U.S.C. 4701 et seq.). Comments received will be considered in preparing the final NMP, which will guide cooperative and integrated management of Caulerpa species in the United States.

DATES: Comments on the draft National Management Plan for the Genus Caulerpa should be received by September 16, 2005.

ADDRESSES: The document is available from the Chair, Caulerpa Working Group, U.S. Fish and Wildlife Service, Stockton Fisheries Resource Office, 4001 N. Wilson Way, Stockton, CA 95205-2486; fax (209) 946-6355. It also is available on our Web page at http://www.fws.gov/contaminants/Library.cfm. Comments may be hand-delivered, mailed, or sent by fax to the address listed above. You may send comments by electronic mail to: David_Bergendorf@fws.gov.

FOR FURTHER INFORMATION CONTACT: David Bergendorf, Chair, Caulerpa Working Group, at (209) 946-6400 ext. 342 or Kari Duncan, Acting Executive Secretary, Aquatic Nuisance Species Task Force at kari_duncan@fws.gov.

SUPPLEMENTARY INFORMATION: In 1999 the Aquatic Nuisance Species Task Force (ANSTF) established the Caulerpa taxifolia Prevention Committee, which drafted the “Prevention Program for the Mediterranean strain of Caulerpa taxifolia.” Caulerpa taxifolia is a species that can compete with native plant species and impact biodiversity, can alter predator-prey interactions, is directly toxic to herbivores and indirectly toxic to invertebrates, and can shade and smother coral reefs.

Before the prevention plan could be implemented, Caulerpa taxifolia, a non-native invasive marine alga, was discovered in two California harbors. As a result of this discovery and the difficulty in distinguishing this non-native invasive strain from other Caulerpa species, the ANSTF requested that the existing draft program be modified and expanded to a National Management Plan (NMP) for invasive Caulerpa species.

The draft NMP, released today for public comment, outlines and prioritizes management strategies that Federal, State, and local agencies and the private sector can use to address Caulerpa introductions in U.S. waters. The goals of the draft NMP are: (1) Preventing the introduction and spread of Caulerpa species to areas in U.S. waters where they are not native; (2) early detection and rapid response to non-native Caulerpa species in U.S. waters; (3) eradication of Caulerpa populations, in waters to which they are not native, where feasible; (4) providing long-term adaptive management and mitigating impacts of populations of Caulerpa species in U.S. waters where they are not native and where eradication is not feasible; (5) educating and informing the public, agencies and policymakers to advocate for preventing the introduction and spread of Caulerpa species; (6) identifying research needs and facilitating research to fill information gaps; and (7) reviewing and assessing progress and revising the management plan and continuing to develop information to meet national management plan goals.

Many Caulerpa species are native to the warm coastal waters of North, Central and South America. Both Florida and Hawaii have native species of Caulerpa in their coastal waters. However, three Caulerpa species are of particular concern due to their invasions of U.S. and foreign waters: C. taxifolia, C. brachypus, and C. racemosa.

Once introduced, invasive Caulerpa species can spread via fragmentation or other vectors. Caulerpa taxifolia (Mediterranean strain) was listed as a Federal noxious weed by the U.S. Department of Agriculture under the Plant Protection Act on March 16, 1999. This listing prohibits importation, entry, exportation, or movement in interstate commerce of this strain of C. taxifolia. To date, eradication efforts for C. taxifolia in California have cost over $3.7 million, and over $500,000 has been allocated to study C. brachypus in Florida.

Dated: July 29, 2005.
Everett Wilson,
Acting Co-Chair, Aquatic Nuisance Species Task Force, Acting Assistant Director—Fisheries & Habitat Conservation.

[FR Doc. 05-16244 Filed 8-16-05; 8:45 am]

BILLING CODE 4310-55-P